DEPARTMENT OF ENERGY

DOE/NSF High Energy Physics Advisory Panel

AGENCY: Department of Energy, Office of Science.

ACTION: Notice of open meeting.

SUMMARY: This notice announces a hybrid meeting of the DOE/NSF High Energy Physics Advisory Panel (HEPAP). The Federal Advisory Committee Act requires that public notice of these meetings be announced in the Federal Register.

DATES:

Thursday, December 8, 2022; 8:00 a.m. to 5:00 p.m.

Friday, December 9, 2022; 8:00 a.m. to 2:00 p.m.

ADDRESSES: This meeting is open to the public. This meeting will be held at the Doubletree by Hilton at 620 Perry Parkway, Gaithersburg, MD 20877. Participation through ZOOM will also be available. Information to participate can be found on the website closer to the meeting date at https://science.osti.gov/hep/hepap/meetings/.

FOR FURTHER INFORMATION CONTACT: John Kogut, Executive Secretary; High Energy Physics Advisory Panel (HEPAP); U.S. Department of Energy; Office of Science; SC-35/Germantown Building, 1000 Independence Avenue SW, Washington, DC 20585; Telephone: (301) 903-1298; Email: John.Kogut@science.doe.gov.

SUPPLEMENTARY INFORMATION:

Purpose of Meeting: To introduce the new Associate Director of the Office of High Energy Physics, Dr. Regina Rameika, and to charge HEPAP to constitute a new Particle Physics Project Prioritization Panel (P5) panel to develop an updated strategic plan for U.S. high-energy physics.

Tentative Agenda

• Update from DOE—Regina Rameika

• Update from NSF—Denise Caldwell

• Presentation of P5 Charge—Glen Crawford/Regina Rameika

• Discussion

Public Participation: The meeting is open to the public. A webcast of this meeting will be available. Please check the website below for updates and information on how to view the meeting. If you would like to file a written statement with the Committee, you may do so either before or after the meeting. If you would like to make oral statements regarding any of these items on the agenda, you should contact John Kogut, (301) 903-1298 or by email at John.Kogut@science.doe.gov. You must make your request for an oral statement at least five business days before the meeting. Reasonable provisions will be made to include the scheduled oral statements on the agenda. The Chairperson of the Panel will conduct the meeting to facilitate the orderly conduct of business. Public comment will follow the 10-minute rule.

Minutes: The minutes of the meeting will be available on the High Energy Physics Advisory Panel website at https://science.osti.gov/hep/hepap/meetings/.

Signed in Washington, DC, on November 16, 2022.
LaTanya Butler,
Deputy Committee Management Officer.

[FR Doc. 2022-25338 Filed 11-21-22; 8:45 am]

BILLING CODE 6450-01-P